DEPARTMENT OF AGRICULTURE

Forest Service

Information Collection; Request for Comment; National Survey on Recreation and the Environment

AGENCY: Forest Service, USDA.

ACTION: Notice.

SUMMARY: In accordance with the Paperwork Reduction Act of 1995, the Forest Service is seeking comments from all interested individuals and organizations on the revised information collection, National Survey on Recreation and the Environment.

DATES: Comments must be received in writing on or before October 7, 2005.

ADDRESSES: Comments concerning this notice should be addressed to H. Ken Cordell, Southern Research Station, Forest Service, USDA, 320 Green Street, Athens, GA 30602-2044.

Comments also may be submitted via facsimile to (706)559-4266 or by e-mail to: kcordell@fs.fed.us

The public may inspect comments received at Research Work Unit SRS-4901, Room 233, Forest Service, USDA, 320 Green Street, Athens, GA, during normal business hours. Visitors are encouraged to call ahead to (706) 559-4262 to facilitate entry to the building. FOR FURTHER INFORMATION CONTACT: H. Ken Cordell, Research Work Unit SRS-4901, 706-559-4263. Individuals who use telecommunication devices for the deaf (TDD) may call the Federal Relay Service (FRS) at 1-800-877-8339, 24 hours a day, every day of the year, including holidays.

SUPPLEMENTARY INFORMATION: Title: National Survey on Recreation and the Environment.

OMB Number: 0596-0127.

Expiration Date of Approval: 08/31/2007.

Type of Request: Renewal.

Abstract: The Forest Service intends to revise this information collection. Because more sponsors have requested use of the National Survey on Recreation and the Environment (NSRE) for their government research needs, additional modules by the Environmental Protection Agency (EPA), United States Coast Guard, and Forest Service have been included. These additional modules have been balanced with existing or shortened modules to stay within the specified time frame for all versions.

Federal land managing agencies are responsible for the management of over 650 million acres of public lands. These lands are managed according to the legislation and overall mission pertaining to each agency. For all federal agencies, this includes management for recreation opportunities. To manage well and wisely, knowledge of recreation demands, opinions, preferences and attitudes regarding the management of these lands is imperative. Understanding these dimensions of public demand is important, expected, and necessary to the development of effective policy, planning, and on-the-ground management. For all federal agencies, input from and knowledge about the public is mandatory. For the non-land managing agencies as well, the collection and analysis of public demand data is vital to defining effective policies and to implementation of programs affecting the management and use of water, forest and wildlife resources. Recreation choice behavior has been identified as an effective measure of the value of natural resources. The Forest and Rangeland Renewable Resources Planning Act (RPA) (PL 93-378) was enacted in 1974 and directed the Secretary of Agriculture to assess periodically the status of the nation's forest and range lands and to recommend a Forest Service program for their sustained management and use. Among the program areas included in the Forest Service assessment are outdoor recreation and wilderness.

This collection is a multi-agency partnership with the U.S. Department of Agriculture, Forest Service and the U.S. Department of Commerce, National Oceanic and Atmospheric Administration (NOAA) as the lead agencies. NSRE 2005 will be the eighth time this survey has been conducted since 1960. The survey is used to measure the demands the public makes on the Nation's land, water, and other natural resources for outdoor recreation; to identify the public perceptions of accessibility to recreational sites, especially those of persons with disabilities; to gain feedback from the public about the management of public recreation sites and natural resources; to ask the public how they think public agencies could improve management of public recreation areas and natural resources; to understand public attitudes about the environment and preferences of visitors for public and private recreational sites; and to keep abreast of shifts in recreational demands that might influence the delivery of recreational services.

The NSRE 2005 will be implemented by a telephone survey of 75,000 individuals, age 16 or older, residing in the United States. The survey will be conducted using computer-assisted telephone interviewing (CATI) technology. A CATI system is efficient because it enables a series of “skips” so that respondents are not asked questions that do not apply to them. Sample elements will be selected by means of a Random Digit Dialing technique, permitting a natural stratification of the sample by state, county, and area code. This represents the civilian, non-institutionalized population, 16 years of age or older in the U.S. The Human Dimensions Research Laboratory at the University of Tennessee in Knoxville, Tennessee will conduct the telephone interviews and data collection. Analysis will be conducted by a board of research scientist who represent the main federal agencies involved in the NSRE.

The telephone surveys are stratified random samples done in versions. Each version consists of modules of questions. Activity Participation and demographics make up the CORE of the survey and are asked of all those in the sample. Other sets of questions (modules) are included in each version. Each version is tested to ensure an average time of 15 minutes to complete. Approximately 5,000 people are surveyed in each version; each group is a nationally representative sample. Research scientist will use U.S. Department of Commerce, Bureau of the Census, 2000 Census data to construct post-sample weights to correct for over-sampling. Both English and Spanish versions of the questionnaires are used and interviews are conducted bilingually to overcome language barriers.

For the U.S. Coast Guard and NOAA the information is critical to assessing the recreational boating community's knowledge and use of available products and services that promote safe navigation, which are important missions of both agencies. The Government Performance Results Act of 1993 (GPRA) requires that public input be considered when the Forest Service Strategic Plan is revised. Not collecting the data will hinder the ability of the Forest Service to comply with the requirements of GPRA. The Bureau of Land Management (BLM) is presently revising its overall mission and strategic goals for which it requires public input, but the BLM has no overarching national-level data on the public knowledge and awareness of (and management references for) BLM lands. The EPA is concerned that in most benefit estimations, the recreation value of a water resource is assumed to be its “use” value. Unfortunately, when estimating the benefits of regulatory water quality changes, the regulatory deadlines EPA faces often do not leave enough time to collect the appropriate data to do original studies specific to the water resources in question. Because of this, EPA is generally forced to rely on benefit transfer methods to value resources. The NSRE offers a cost effective way to collect a nationwide freshwater recreation revealed preference data set that could help address this problem. EPA intends to use the collected data as a readily available resource that will enable EPA and others to estimate original recreation demand models in support of proposed regulations and in the evaluation of other government proposed projects. The issues facing many federal agencies are current and need to be addressed. Because environmental and social conditions are changing rapidly, old information will no longer suffice as the basis for decision-making. Timing is also an issue as the NSRE is only conducted every five years.

Estimate of Annual Burden: 15 minutes.

Type of Respondents: Individuals, age 16 or older, residing in the United States.

Estimated Annual Number of Respondents: 25,000.

Estimated Annual Number of Responses per Respondent: 1.

Estimated Total Annual Burden on Respondents: 4,915 hours

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: August 2, 2005.
Ann M. Bartuska,
Deputy Chief for Research & Development.

[FR Doc. 05-15642 Filed 8-5-05; 8:45 am]

BILLING CODE 3410-11-U